DEPARTMENT OF COMMERCE

Census Bureau

2002 Survey of Business Owners and Self-Employed Persons (SBO) Pretest

ACTION: Proposed collection, comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 9, 2001.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to (Valerie Strang, Bureau of the Census, CSD, Room 1183-3, Washington, DC 20233-6400, (301) 457-3316).

SUPPLEMENTARY INFORMATION:

I. Abstract

The Census Bureau plans to conduct a pretest of the 2002 Survey of Business Owners and Self-Employed Persons (SBO), previously known as the Survey of Minority-Owned Business Enterprises and the Survey of Women-Owned Business Enterprises (SMOBE/SWOBE). In the SBO, businesses are asked several questions about their business as well as several questions about the gender, race, and ethnicity of the owner(s). This survey provides the only comprehensive, regularly collected source of information on business owners' race, ethnicity, and gender. The survey is conducted as part of the economic census program which is required by law to be taken every 5 years under Title 13 of the United States Code, sections 131, 193, and 224.

Businesses which reported any business activity on any one of the following Internal Revenue Service tax forms: 1040 (Schedule C), “Profit or Loss from Business” (Sole Proprietorship); 1065, “U.S. Partnership Return of Income''; or any one of the 1120 corporate tax forms will be eligible for the pretest.

The pretest is needed to test several significant changes to the questionnaire since previously conducted and the impact these changes will have on the estimates. These changes include the following:

The questions about race and ethnicity have been modified to meet OMB guidelines to allow respondents the opportunity to select more than one race. Also, per the OMB guidelines, the Hispanic origin question is placed before the race question. Although these questions are patterned after the race/ethnicity questions used on the 2000 Decennial Census, significant background research has suggested alternative question formats or instructions that have not previously been tested. We will test two alternatives in the 2002 SBO Pretest.

The survey adopts person-level reporting for a variety of characteristics for up to three individual owners, because background research suggested difficulty with aggregate reporting of race and ethnicity combinations for multiple owners. Summaries from the 1997 SMOBE/SWOBE showed that 75 percent of businesses surveyed had three or fewer owners. Therefore we decided to capture information for, at most, three owners.

Some questions have been modified to alleviate reporting problems encountered on the 1997 SMOBE/SWOBE.

Several new questions have been borrowed from the former Characteristics of Business Owners survey, which has not been funded for the upcoming economic census. These items will fill the void for many data users, including the Small Business Administration and other interested associations. Some of these new questions have been incorporated into the individual owner questions, while others are asked about the entire business.

A few new questions have been added to increase our understanding of businesses' use of alternative employment arrangements, as well as their use of various e-business processes.

II. Method of Collection

The Census Bureau will use a mailout/mailback survey form to collect the data. The questionnaires will be mailed from our National Processing Center in Jeffersonville, Indiana. A mail follow-up will be conducted at approximately a one-month interval. Upon closeout of the survey, the response data will be edited and reviewed.

III. Data

OMB Number: Not available.

Form Number: Two alternate versions of the SBO-1, “Survey of Business Owners and Self-Employed Persons” will be tested.

Type of Review: Regular review.

Affected Public: Large and small businesses, other for-profit and nonprofit organizations, and publicly held corporations.

Estimated Number of Respondents: 10,000.

Estimated Time Per Response: The average for all respondents is 15 minutes or less.

Estimated Total Annual Burden Hours: 2,500 hours.

Estimated Total Annual Cost: The total cost to the respondnet is estimated to be $49,150 based on the hourly salary of $19.16 for entry level accountants and auditors multiplied by the annual burden hours (2,500). (Occupational Employment Statistics—Bureau of Labor Statistics 1999 National Occupational Employment and Wage Estimates for Professional, Paraprofessional, and Technical Occupations).

Respondent's Obligation: Voluntary.

Legal Authority: Title 13, United States Code, sections 131, 182, and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 2, 2001.
Madeleine Clayton,
Departmental Paperwork Clearance Officer, Office of the Chief Information Officer.

[FR Doc. 01-19677 Filed 8-6-01; 8:45 am]

BILLING CODE 3510-07-P